ENVIRONMENTAL PROTECTION AGENCY

[EPA-HQ-OPP-2010-0014; FRL-8857-1]

Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel certain pesticide registrations. EPA intends to grant these requests at the close of the comment period for this announcement unless the Agency receives substantive comments within the comment period that would merit its further review of the requests, or unless the registrants withdraw their requests. If these requests are granted, any sale, distribution, or use of products listed in this notice will be permitted after the registrations have been canceled only if such sale, distribution, or use is consistent with the terms as described in the final order.

DATES: Comments must be received on or before July 14, 2011.

ADDRESSES: Submit your comments, identified by docket identification (ID) number EPA-HQ-OPP-2010-0014, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Submit written withdrawal request by mail to: Pesticide Re-evaluation Division (7508P), Office of Pesticide Programs, Environmental Protection Agency, 1200 Pennsylvania Ave., NW., Washington, DC 20460-0001. Attention: Maia Tatinclaux.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2010-0014. EPA's policy is that all comments received will be included in the docket without change and may be made available on-line at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; e-mail address: tatinclaux.maia@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. If you have any questions regarding the information in this notice, consult the person listed under FOR FURTHER INFORMATION CONTACT.

B. What should I consider as I prepare my comments for EPA?

1. Submitting CBI. Do not submit this information to EPA through http://www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This notice announces receipt by the Agency of requests from registrants to cancel 67 pesticide products registered under FIFRA section 3 or 24(c). These registrations are listed in sequence by registration number (or company number and 24(c) number) in Table 1 of this unit.

Unless the Agency determines that there are substantive comments that warrant further review of the requests or the registrants withdraw their requests, EPA intends to issue an order in the Federal Register canceling all of the affected registrations.

Table 1—Registrations with Pending Requests for Cancellation
Registration No. | Product name | Active ingredient
000004-00059 | Bonide Rose and Flower Dust | Malathion. Carbaryl. Captan.
000004-00360 | Bonide Prometon 3.75% Liquid Vegetation Killer | Prometon.
000004-00414 | Total Weed Killer | Prometon.
000004-00446 | Bonide Total Vegetation Killer Concentrate | Prometon.
000228-00186 | Riverdale 1D + 1DP Low Vol | 2,4-D, 2-ethylhexyl ester. 2-Ethylhexyl (R)-2-(2,4-dichlorophenoxy) propionate.
000961-00396 | Lebanon Moss Control | Ferrous sulfate monohydrate.
001022-00409 | Copper Naphthenate WR Wood Preservative Ready to Use | Copper naphthenate.
001022-00507 | Copper Naphthenate 1% | Copper naphthenate.
001022-00528 | Copper Naphthenate Concentration 8% | Copper naphthenate.
001022-00568 | Chapco CU-Nap 800 EC | Copper naphthenate.
001022-00571 | Chapco CU-Nap 400 | Copper naphthenate.
001022-00579 | Curap 20 Pak | Borax. Copper naphthenate.
001448-00149 | T-30-1 | 2-(Thiocyanomethylthio) benzothiazole.
001448-00150 | T-30-2 | 2-(Thiocyanomethylthio) benzothiazole.
001448-00152 | T-5-1 | 2-(Thiocyanomethylthio) benzothiazole.
001448-00153 | T-5-2 | 2-(Thiocyanomethylthio) benzothiazole.
001677-00199 | Quantum TB Disinfectant | Caprylic acid.
001719-00044 | Zin-Tox Wood Preservative | Zinc naphthenate.
002217-00755 | Vegetation Killer 150 | Prometon.
002217-00756 | Vegetation Killer 250 | Prometon.
002217-00757 | Vegetation Killer 375 | Prometon.
002517-00066 | Sergeant's Skip Flea & Tick Spray Shampoo Plus Conditioner for Dogs | Piperonyl butoxide. Permethrin.
002829-00082 | Vinyzene BP-5 | 10,10'-Oxybisphenoxarsine.
003008-00093 | Copper 8-Quinolinolate | Copper, bis(8-quinolinolato-N1,O8)-.
004822-00503 | 8539 Disinfectant Spray Cleaner | 1-Octanaminium, N,N-dimethyl-N-octyl-, chloride. 1-Decanaminium, N-decyl-N,N-dimethyl-, chl oride. 1-Decanaminium, N,N-dimethyl-N-octyl-, chloride.
004822-00504 | Tough Act The Heavy Duty Bathroom Cleaner | Alkyl*dimethyl benzyl ammonium chloride. Alkyl*dimethyl ethylbenzyl ammonium chloride.
004822-00505 | Dow Aerosol Disinfectant Bathroom Cleaner | Alkyl*dimethyl benzyl ammonium chloride. Alkyl*dimethyl ethylbenzyl ammonium chloride.
004822-00506 | Tough Act The Heavy Duty Aerosol Bathroom Cleaner | Alkyl*dimethyl benzyl ammonium chloride. Alkyl*dimethyl ethylbenzyl ammonium chloride.
004822-00507 | Dow Liquid Bathroom Cleaner | Alkyl*dimethyl benzyl ammonium chloride. Alkyl*dimethyl ethylbenzyl ammonium chloride.
007364-00042 | Tabex Quick Shot Tablets | Tricloro-s-triazinetrione.
007969-00078 | Basagran M-60 Herbicide | MCPA, dimethylamine salt; 3-Isopropyl-1H-2, 1,3-benzothiadiazin-4 (3H)-one-2,2-dioxide, sodium salt.
010707-00005 | Magnacide 434 | 1-(Alkyl* amino)-3-aminopropane hydroxyacetate *(as in fatty acids of coconut oil).
010707-00006 | Magnacide 461 | 1-(Alkyl* amino)-3-aminopropane hydroxyacetate *(as in fatty acids of coconut oil).
010707-00033 | Magnacide B-615 | 1-(Alkyl* amino)-3-aminopropane hydroxyacetate *(as in fatty acids of coconut oil).
010707-00054 | Microbiocide 56 | 1-(Alkyl* amino)-3-aminopropane hydroxyacetate *(as in fatty acids of coconut oil).
010707-00055 | X-cide 305 | 1-(Alkyl* amino)-3-aminopropane hydroxyacetate *(as in fatty acids of coconut oil).
019713-00151 | Drexel MSMA 8 | MSMA.
019713-00267 | Drexel MSMA 4 Plus | MSMA.
019713-00278 | Drexel MSMA Liquid 6 Plus | MSMA.
019713-00529 | Drexel MSMA 600 Herbicide | MSMA.
033955-00454 | ACME Vegetation Killer | Prometon.
034704-00816 | Liquid Moss Control | Ferric sulfate.
051036-00415 | Laddock 5L Herbicide | Atrazine. 3-Isopropyl-1H-2,1,3-benzothiadiazin-4 (3H)-one-2,2-dioxide, sodium salt.
051036-000421 | Basagran AG | 3-Isopropyl-1H-2,1,3-benzothiadiazin-4 (3H)-one-2,2-dioxide, sodium salt.
051036-00363 | Prompt 5L Herbicide | Atrazine. 3-Isopropyl-1H-2,1,3-benzothiadiazin-4 (3H)-one-2,2-dioxide, sodium salt.
053883-00064 | Martin's Fire Bait 2 | Hydramethylnon.
053883-00065 | Martin's Fire Ant Bait 1 | Hydramethylnon.
053883-00066 | Martin's Insect Bait 2 | Hydramethylnon.
053883-00067 | Martin's Insect Bait 1 | Hydramethylnon.
061282-00007 | Ramik Meal Rodenticide for Control of Commensal Rats and Mice | Diphacinone.
062719-00339 | MSMA 6.6 | MSMA.
062719-00340 | MSMA Plus “S” | MSMA.
062719-00343 | MSMA 51% | MSMA.
066330-00386 | Fluroxypyr Technical | Fluroxypyr 1-methylheptyl ester.
086203-00019 | Yard and Patio Fogger | Piperonyl butoxide. Ethofenprox. Tetramethrin.
086203-00020 | Flying Insect Killer II | Piperonyl butoxide. Ethofenprox. Tetramethrin.
086203-00021 | Crawling Insect Killer I | Piperonyl butoxide. Ethofenprox. Tetramethrin.
086203-00022 | Premium Roach Spray | Piperonyl butoxide. Ethofenprox. Tetramethrin. Pyrethrins.
CA-020006 | Linex 50 DF | Gas Cartridge (as a device for burrowing animal control); Linuron.
ID-060002 | Platinum Insecticide | Thiamethoxam.
OR-050004 | Subdue Maxx | D-Alanine, N-(2,6-dimethylphenyl)-N-(methoxyacetyl)-, methyl ester.
OR-060002 | LSP Flowable Fungicide | Thiabendazole.
OR-060014 | Outlook Herbicide | Dimethenamide-P.
OR-060015 | Platinum | Thiamethoxam.
WA-000031 | Pear Wrap III | Copper carbonate, basic. Ethoxyquin.
WA-050007 | Sencor DF 75% Dry Flowable Herbicide | Metribuzin.
WA-090006 | Nemacur 3 Emulsifiable Insecticide-Nematicide | Fenamiphos.

Table 2 of this unit includes the names and addresses of record for all registrants of the products in Table 1 of this unit, in sequence by EPA company number. This number corresponds to the first part of the EPA registration numbers of the products listed in this unit.

Table 2—Registrants Requesting Voluntary Cancellation
EPA company No. | Company name and address
4 | Bonide Products, Inc., Agent Registrations By Design, Inc., P.O. Box 1019, Salem, VA 24153-3805.
228 | Nufarm Americas Inc., 150 Harvester Drive, Suite 200, Burr Ridge, IL 60527.
961 | Lebanon Seaboard Corporation, 1600 East Cumberland St., Lebanon, PA 17042.
1022 | IBC Manufacturing Co., 416 E. Brooks Rd., Memphis, TN 38109.
1448 | Buckman Laboratories Inc., 1256 North McLean Blvd., Memphis, TN 38108.
1677 | Ecolab Inc., 370 North Wabasha Street, St. Paul, MN 55102.
1719 | Mobile Paint Manufacturing Company Inc., P.O. Box 717, Theodore, AL 36582.
2217 | PBI/Gordon Corp., 1217 West 12th Street, P.O. Box 014090, Kansas City, MO 64101-0090.
2517 | Sergeant's Pet Care Products, Inc., 2625 South 158th Plaza, Omaha, NE 68130-1703.
2829 | Rohm and Haas Company, 100 South Independence Mall West, Suite 1A, Philadelphia, PA 19106-2399.
3008 | Osmose Inc., 980 Ellicott Street, Buffalo, NY 14209.
4822 | S.C. Johnson & Son Inc., 1525 Howe Street, Racine, WI 53403.
7364 | GLB Pool & Spa, (An Arch Chemicals, Inc. Business), W175 N11163 Stonewood Drive, Suite 234, Germantown, WI 53022-4799.
7969 | BASF Corporation, 26 Davis Drive, P.O. Box 13528, Research Triangle Park, NC 27709-3528.
10707 | Baker Petrolite Corporation, 12645 West Airport Blvd., Sugar Land, TX 77478.
19713 | Drexel Chemical Company, 1700 Channel Ave., P.O. Box 13327, Memphis, TN 38113-0327.
33955 | PBI/Gordon Corp., 1217 West 12th Street, P.O. Box 014090, Kansas City, MO 64101-0090.
34704 | Loveland Products, Inc., P.O. Box 1286, Greeley, Colorado 80632-1286.
51036 | BASF Sparks LLC, P.O. Box 13528, Research Triangle Park, NC 27709-3528.
53883 | Control Solutions, Inc., Agent Name: D. O'Shaughnessy Consulting, Inc., 427 Hide Away Circle, Cub Run, KY 42729.
61282 | Hacco, Inc., 110 Hopkins Drive, Randolph, WI 53956-1316.
62719 | Dow Agrosciences LLC, 9330 Zionsville Rd 308/2E, Indianapolis, IN 46268-1054.
66330 | Arysta LifeScience North America, LLC, 15401 Weston Parkway, Suite 150, Cary, NC 27513.
86203 | Mitsui Chemicals Agro, Inc., P.O. Box 5126, Vadosta, GA 31603-5126.
OR-060014 | BASF Corporation, Agricultural Products, 26 Davis Drive, P.O. Box 13528, Research Triangle Park, NC 27709-3528.
CA-020006 | Pan American Seed Co., PO Box 506, Lompoc, CA 93438.
ID-060002; OR-060015; OR-050004 | Syngenta Crop Protection, Inc., ATTN: Regulatory Affairs, P.O. Box 18300, Greensboro, NC 27419-8300.
OR-060002; WA-050007 | Bayer CropScience LP, 2 T.W. Alexander Drive, P.O. Box 12014, Research Triangle Park, NC 27709.
WA-000031 | Wrap Pack Inc., Agent: Technology Sciences Group, Inc., 1150 18th St., NW., Suite 100, Washington, DC 20036.
WA-090006 | Bayer CropScience LP, 2 T.W. Alexander Drive, P.O. Box 12014, Research Triangle Park, NC 27709.

III. What is the agency's authority for taking this action?

Section 6(f)(1) of FIFRA provides that a registrant of a pesticide product may at any time request that any of its pesticide registrations be canceled. FIFRA further provides that, before acting on the request, EPA must publish a notice of receipt of any such request in the Federal Register.

Section 6(f)(1)(B) of FIFRA requires that before acting on a request for voluntary cancellation, EPA must provide a 30-day public comment period on the request for voluntary cancellation or use termination. In addition, FIFRA section 6(f)(1)(C) requires that EPA provide a 180-day comment period on a request for voluntary cancellation or termination of any minor agricultural use before granting the request, unless:

1. The registrants request a waiver of the comment period, or

2. The EPA Administrator determines that continued use of the pesticide would pose an unreasonable adverse effect on the environment.

The registrants in Table 2 of Unit II. have not requested that EPA waive the 180-day comment period. Accordingly, EPA will provide a 180-day comment period on the proposed requests.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action.

A. Disposition of Existing Stocks for All Table 1 Products except EPA Reg. No. 61282-7

Because the Agency has identified no significant potential risk concerns associated with these pesticide products, upon cancellation of the products identified in Table 1 of Unit II., EPA anticipates allowing registrants to sell and distribute existing stocks of these products for 1 year after publication of the Cancellation Order in the Federal Register. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

B. Disposition of Existing Stocks for EPA Reg. No. 61282-7

Following the publication of the Cancellation Order in the Federal Register, the EPA will not allow the registrant to sell or distribute any existing stocks of product 61282-7, except when consistent with FIFRA section 17 or for proper disposal. Persons other than registrants will generally be allowed to sell, distribute, or use existing stocks until such stocks are exhausted, provided that such sale, distribution, or use is consistent with the terms of the previously approved labeling on, or that accompanied, the canceled product.

List of Subjects

Environmental protection, Pesticides and pests.

Dated: January 11, 2011.
Richard P. Keigwin, Jr.,
Director, Pesticide Re-evaluation Division, Office of Pesticide Programs.

[FR Doc. 2011-936 Filed 1-18-11; 8:45 am]

BILLING CODE 6560-50-P